DEPARTMENT OF HEALTH AND HUMAN SERVICES

Health Resources and Services Administration

Agency Information Collection Activities: Proposed Collection: Public Comment Request, Information Collection Request Title: Rural Health Care Services Outreach Program Performance Improvement and Measurement Systems (PIMS) Measures, OMB No. 0906-0009, Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than September 20, 2021.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Rural Health Care Services Outreach Program PIMS Measures OMB No. 0906-0009—Revision

Abstract: The Rural Health Care Services Outreach (Outreach) Program is authorized by Section 330A(e) of the Public Health Service Act (42 U.S.C. 254c(e)) to “promote rural health care services outreach by improving and expanding the delivery of health care services to include new and enhanced services in rural areas, through community engagement and evidence-based or innovative, evidence-informed models.” The goals for the Outreach Program are as follows: (1) Expand the delivery of health care services to include new and enhanced services exclusively in rural communities, (2) deliver health care services through a strong consortium, in which every consortium member organization is actively involved and engaged in the planning and delivery of services, (3) utilize community engagement and evidence-based or innovative, evidence-informed model(s) in the delivery of health care services, and (4) improve population health, and demonstrate health outcomes and sustainability.

Need and Proposed Use of the Information: The PIMS measures for the Outreach Program enable HRSA and the Federal Office of Rural Health Policy to capture awardee-level and aggregate data that illustrate the impact and scope of federal funding. The collection of this information helps further inform and substantiate the focus and objectives of the grant program. The measures encompass the following topics: (a) Access to care, (b) population demographics, (c) consortium/network, (d) sustainability, and (e) project specific domains.

The proposed Outreach PIMS measures reflect an increase in the number of measures including the following:

(1) The addition of project-specific measures related to the Healthy Rural Hometown Initiative (includes 17 required and 20 optional measures for a total of 37 additional measures) applicable only to Outreach awardees who apply to be part of the Healthy Rural Hometown Initiative track (anticipated total of 16 out of 61 awardees) to focus on one or more of the five causes of excess death in rural communities (heart disease, cancer, unintentional injury/substance use, chronic lower respiratory disease, and stroke);

(2) addition of project-specific measures (3 additional measures) only applicable to Outreach Awardees with a focus on telehealth (anticipated total of 15 out of 61 awardees);

(3) the addition of social determinants of health measures (3 additional measures) only applicable to Outreach Awardees addressing social determinants of health as part of their grant funded activities (anticipated total of 15 out of 61 awardees);

(4) the consolidation of the access to care measures from singular to composite measure format (currently 14, previously 16) applicable to all awardees (anticipated total of 61 awardees);

(5) removal of an outdated project specific measure (1 measure removed) applicable to awardees focused on childhood obesity;

(6) removal of an outdated project specific applicable to awardees providing clinical services (currently 7, previously 8) related to Healthy People 2020 and;

(7) removal of the outdated project specific Health Improvement Special Project measure (1 measure removed).

In total, the proposed changes reflect the addition of 43 measures and the removal of 5 measures for an increase in measures by a total of 38 measures. Of these measures, 17 are required and 26 are optional. All additional measures proposed are project specific (only applicable to anticipated total ranging from 15-16 out of 61 awardees). All measures will not be applicable to all 61 respondents. Project specific measures will remain applicable only to Outreach Awardees focusing on the respective project specific topic.

Likely Respondents: The respondents would be award recipients of the Rural Health Care Services Outreach Program.

Burden Statement: Burden in this context means the time expended by persons to generate, maintain, retain, disclose or provide the information requested. This includes the time needed to review instructions; develop, acquire, install, and utilize technology and systems for the purpose of collecting, validating, and verifying information, processing and maintaining information, and disclosing and providing information; train personnel and to be able to respond to a collection of information; to search data sources; complete and review the collection of information; and transmit or otherwise disclose the information. The total annual burden hours estimated for this ICR are summarized in the table below.

Total Estimated Annualized Burden Hours:

Form name | Number of respondents | Number of responses per respondent | Total responses | Average burden per response (in hours) | Total burden hours
Rural Health Care Services Outreach PIMS | 61 | 1 | 61 | 3.5 | 213.5
| 61 |  | 61 |  | 213.5

HRSA specifically requests comments on the: (1) Necessity and utility of the proposed information collection for the proper performance of the agency's functions; (2) accuracy of the estimated burden; (3) ways to enhance the quality, utility, and clarity of the information to be collected; and (4) use of automated collection techniques or other forms of information technology to minimize the information collection burden.

Maria G. Button,
Director, Executive Secretariat.

[FR Doc. 2021-15607 Filed 7-21-21; 8:45 am]

BILLING CODE 4165-15-P